DEPARTMENT OF HEALTH AND HUMAN SERVICES

Office of the Secretary

Fleet Alternative Fuel Vehicle Acquisition and Compliance Report

AGENCY: Department of Health and Human Services (HHS).

ACTION: Notice of availability.

SUMMARY: Pursuant to 42 United States Code 13218(b), the Department of Health and Human Services gives notice that the Department's FY 2005 Fleet Alternative Fuel Vehicle Acquisition and Compliance Report is available online at http://www.knownet.hhs.gov/ log/AgencyPolicy/HHSLogPolicy/afvcompliance.htm.

FOR FURTHER INFORMATION CONTACT: Jim Kerr at (202) 720-1904, or via e-mail at jim.kerr@hhs.gov.

Dated: February 2, 2006.
Joe W. Ellis,
Assistant Secretary for Administration and Management.

[FR Doc. E6-2976 Filed 3-1-06; 8:45 am]

BILLING CODE 4151-17-P